Memorandum of April 12, 2016

Delegations of Authority Under Sections 610, 614(a)(1), and 506(a)(2)(A)(i)(II) of the Foreign Assistance Act of 1961

Memorandum for the Secretary of State

By the authority vested in me as President by the Constitution and the laws of the United States of America, including section 301 of title 3, United States Code, I hereby delegate to you the following authorities, subject to fulfilling the requirements of sections 614(a)(3) and 652 of the Foreign Assistance Act of 1961 (FAA) and section 7009(d) of the Department of State, Foreign Operations, and Related Programs Appropriations Act, 2010 (Division F, Public Law 111-117), in order to provide assistance for Iraq:

(1) the authority under section 610 of the FAA to make the determination necessary for and to execute the transfer of up to $50 million of Fiscal Year (FY) 2010 supplemental International Narcotics Control and Law Enforcement (INCLE) funds to the Economic Support Fund account;

(2) the authority under section 614(a)(1) of the FAA to determine whether it is important to the security interests of the United States to furnish assistance using up to $50 million of FY 2010 supplemental INCLE funds without regard to any other provision of law within the purview of section 614(a)(1) of the FAA; and

(3) the authority under section 506(a)(2)(A)(i)(II) of the FAA to make the determination required and direct the drawdown of up to $33.9 million in articles and services from the inventory and resources of any agency of the United States Government and military education and training from the Department of Defense for the purposes and under the authorities of chapter 9 of part I of the FAA.

You are authorized and directed to publish this memorandum in the Federal Register.

THE WHITE HOUSE,

Washington, April 12, 2016

[FR Doc. 2016-24168

Filed 10-3-16; 11:15 am]

Billing code 4710-10-P